DEPARTMENT OF AGRICULTURE

Forest Service

Klamath Provincial Advisory Committee (PAC)

AGENCY: Forest Service, USDA.

ACTION: Notice of meeting.

SUMMARY: The Klamath Provincial Advisory Committee will meet on July 27 and 28, 2000, at the Northern California Service Center, Training Rooms 2 and 3, 6101 Airport Road, Redding, California. The meeting on Thursday, July 27, will start at 1 p.m. and adjourn at 5 p.m. The meeting will reconvene on Friday, July 28 at 8 a.m. and will adjourn at 12 p.m. Agenda items for the meeting include: (1) Discussion on topics of general interest to the PAC (FERC Relicensing, an update on the Shasta-Trinity National Forest Fire Management Strategy, Southern Oregon BLM Wild & Scenic River Plan); (2) Total Maximum Daily Loads discussion and update; and (3) Public Comment Periods. All Provincial Advisory Committee meetings are open to the public. Interested citizens are encouraged to attend.

FOR FURTHER INFORMATION CONTACT: Connie Hendryx, USDA, Klamath National Forest, 11263 N. Hwy 3, Fort Jones, California 96032; telephone 530-468-1281 (voice), TDD 530-468-2783.

Dated: July 19, 2000.
Constance J. Hendryx,
PAC Support Staff.

[FR Doc. 00-18078 Filed 7-17-00; 8:45 am]

BILLING CODE 3410-11-M